DEPARTMENT OF THE INTERIOR

National Park Service

[NPS-NER-DEWA-18330]; [PX.DDEWA0014.001]

Draft Environmental Impact Statement and Visitor Use Management Plan for Delaware Water Gap National Recreation Area, Pennsylvania and New Jersey

AGENCY: National Park Service, Interior.

ACTION: Notice of intent.

SUMMARY: The National Park Service (NPS) is preparing an Environmental Impact Statement (EIS) for the Visitor Use Management Plan for Delaware Water Gap National Recreation Area (DEWA), in New Jersey and Pennsylvania. This effort will examine current and potential visitor opportunities and will develop long-term strategies for protecting resources while providing access, connecting visitors to key visitor experiences, and managing use. The planning process will also involve evaluating the zones in the 1987 General Management Plan (GMP), and may include updating the zoning scheme as needed through a GMP amendment. This notice initiates the public participation and scoping process for the EIS. The public is invited to comment on the purpose, need, objectives, preliminary management options, or any other issues associated with the proposal.

DATES: The public scoping period will commence on the date this notice is published in the Federal Register and last for at least 30 days. The NPS will hold public meetings near the park and surrounding region to provide the public an opportunity to review the proposal and project information. The place and time of public scoping meetings will be announced by the NPS in local newspapers serving the area. Scoping and other periodic public meeting notices and information regarding the visitor use management plan will also be placed on the PEPC Web site at http://parkplanning.nps.gov/dewa for continuing public review and comment.

ADDRESSES: A scoping brochure and other materials describing the overall purpose, issues, and possible management strategies may be obtained from the PEPC Web site: http://parkplanning.nps.gov/dewa, from the national recreation area's Information Desk at Delaware Water Gap National Recreation Area, Headquarters, 1978 River Road, Bushkill, PA 18324; or via telephone at (570) 426-2452.

If you wish to comment on the scoping brochure or any other issues associated with the Plan, you may mail or hand-deliver comments to Delaware Water Gap National Recreation Area Attn: VUM Plan, 1978 River Road, Bushkill, PA 18324; or comment via the Internet at http://parkplanning.nps.gov/dewa.

FOR FURTHER INFORMATION CONTACT: Leslie Morlock, Chief of Strategic Planning and Project Management, Delaware Water Gap National Recreation Area, 1978 River Road, Bushkill, PA 18324, telephone (570) 296-6952 extension 10, or by email at leslie_morlock@nps.gov; or Ericka Pilcher, Visitor Use Management Specialist, Denver Service Center Planning Division, 12795 West Alameda Parkway, Littleton, CO 80228, telephone (303) 969-6673, or by email at ericka_pilcher@nps.gov.

SUPPLEMENTARY INFORMATION: In recent years, areas within Delaware Water Gap National Recreation Area have experienced changes in the amounts and patterns of use by visitors and local residents. This use is affecting park natural and cultural resources in ways unanticipated since the finalization of the park's General Management Plan in 1987. As a result, and pursuant to Section 102(2)(C) of the National Environmental Policy Act of 1969, the NPS is beginning a comprehensive planning and environmental impact statement process to determine how best to protect park resources and values while providing appropriate opportunities for visitor use, experience, and enjoyment of the recreation area. Delaware Water Gap National Recreation Area encompasses a portion of a national scenic trail and a wild and scenic river.

Several statutes, including the National Parks and Recreation Act, Wild and Scenic Rivers Act, and National Trails System Act, expressly require federal agencies to address visitor capacity. Therefore, the comprehensive understanding of visitor use throughout the park would also assist in setting visitor capacities for the river and feed into future planning. This Plan will: (1) Be grounded in the recreation area's purpose, significance, and fundamental and other important resources and values; (2) clearly define the necessary conditions for park visitors to understand, enjoy, and appreciate these resources and values; (3) identify the desired conditions for visitor experiences linked to these resources and values; (4) establish indicators, standards, and management strategies for maintaining these desired conditions; and (5) establish visitor capacities where needed.

A range of management strategies, including the potential rezoning of some park areas, will be developed to address long term management of visitor use and protection of natural and cultural resources in the national recreation area. These will be presented for public comment during public scoping to help develop alternatives, including a “no-action alternative,” for the Plan. The Plan will also explore management approaches that can be adapted to changing conditions, identifying indicators and thresholds, develop monitoring systems to assure the protection of resources, and continue to provide a quality visitor experience.

Before including your address, phone number, email address, or other personal identifying information in any comment, you should be aware that your entire comment—including your personal identifying information—may be made publicly available at any time. While you can ask us in your comment to withhold your personal identifying information from public review, we cannot guarantee that we will be able to do so.

Dated: June 1, 2015.
Michael A. Caldwell,
Regional Director, Northeast Region, National Park Service.

[FR Doc. 2015-18593 Filed 7-28-15; 8:45 am]

BILLING CODE 4312-JG-P